DEPARTMENT OF HOMELAND SECURITY

Coast Guard

33 CFR Part 100

[Docket No. USCG-2014-0072]

Special Local Regulations; Recurring Marine Events in the Seventh Coast Guard District

AGENCY: Coast Guard, DHS.

ACTION: Notice of enforcement of regulation.

SUMMARY: The Coast Guard will enforce the FKCC Swim around Key West Special Local Regulation in the Atlantic Ocean and Gulf of Mexico, from 8:30 a.m. until 4:30 p.m. on June 14, 2014. This action is necessary to ensure the safety of race participants, participant vessels, spectators, and the general public from the hazards associated with this event. During the enforcement period, no person or vessel may enter the regulated area without permission from the Captain of the Port.

DATES: The regulations in 33 CFR 100.701 Table 1 will be enforced from 8:30 a.m. until 4:30 p.m. on June 14, 2014.

FOR FURTHER INFORMATION CONTACT: If you have questions on this notice, call or email Marine Science Technician First Class Ian G. Bowes, Sector Key West Prevention Department, U.S. Coast Guard; telephone 305-292-8823, email Ian.G.Bowes@uscg.mil.

SUPPLEMENTARY INFORMATION: The Coast Guard will enforce the FKCC Swim around Key West Special Local Regulation in the Atlantic Ocean and Gulf of Mexico in 33 CFR 100.701 on June 14, 2014. These regulations can be found in the Code of Federal Regulations at 33 CFR 100.701.

On June 14, 2014, Florida Keys Community College is hosting the FKCC Swim around Key West, a swim event that will circumnavigate the island of Key West starting and finishing at Smathers Beach. The event will be held on the waters of the Atlantic Ocean and Gulf of Mexico in Key West. Approximately 175 swimmers with assist boats and kayaks will participate in the swim.

The special local regulations encompass certain waters of the Atlantic Ocean and Gulf of Mexico located around the island of Key West. The special local regulations will be enforced from 8:30 a.m. until 4:30 p.m. on June 14, 2014. The special local regulations area will consist of the following area: A moving race area, where all persons and vessels, except those persons and vessels participating in the swim event, are prohibited from entering, transiting, anchoring, or remaining. The race area is defined as all waters of the Atlantic Ocean and Gulf of Mexico located approximately 50 yards offshore of the island of Key West and extends 50 yards in front of the lead safety vessel proceeding the first race participants; extends 50 yards behind the safety vessel trailing the last race participants; and at all times 100 yards on either side of the race participants and safety vessels. Persons and vessels may request authorization to enter, transit through, anchor in, or remain within the race area by contacting the Captain of the Port Key West by telephone at 305-292-8727, or a designated representative via VHF radio on channel 16. If authorization to enter, transit through, anchor in, or remain within the race area is granted by the Captain of the Port Key West, or a designated representative, all persons and vessels receiving such authorization must comply with the instructions of the Captain of the Port Key West or the designated representative. The Coast Guard will provide notice of the regulated area by Local Notice to Mariners, Broadcast Notice to Mariners, and on-scene designated representatives. The Coast Guard may be assisted by other Federal, State, or local law enforcement agencies in enforcing this regulation.

This notice is issued under authority of 33 CFR 100.701 and 5 U.S.C. 552(a). In addition to this notice in the Federal Register, the Coast Guard will provide the maritime community with advance notification of this enforcement period via a Broadcast Notice to Mariners.

Dated: March 7, 2014.
A.S. Young, Sr.,
Captain, U.S. Coast Guard, Captain of the Port Key West.

[FR Doc. 2014-06445 Filed 3-24-14; 8:45 am]

BILLING CODE 9110-04-P